DEPARTMENT OF ENERGY

Federal Energy Regulatory Commission

[Docket No. EG00-173-000]

Entergy Nuclear New York Investment Company I; Notice of Amendment to Application for Commission Determination of Exempt Wholesale Generator Status

July 25, 2000.

Take notice that on July 21, 2000, Entergy Nuclear New York Investment Company I, c/o RL&F Service Corp., One Rodney Square, 10th Floor, Tenth & King Street, Wilmington, DE, filed with the Federal Energy Regulatory Commission an amendment to its application for determination of exempt wholesale generator status pursuant to Part 365 of the Commission's regulations. The amendment affirms that the applicant will engage indirectly and exclusively through one or more affiliates as defined in Section 2(a)(11)(B) of the Public Utility Holding Company Act of 1935 in the business of owning and/or operating eligible facilities in the United States and selling electric energy at wholesale.

Any person desiring to be heard concerning the amended application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the amended application. All such motions and comments should be filed on or before August 4, 2000, and must be served on the applicant. Any person wishing to become a party must file a motion to intervene. Copies of this filing are on file with the Commission and are available for public inspection or on the Internet at http://www.ferc.fed.us/online/rims.htm (please call (202) 208-2222 for assistance).

David P. Boergers,
Secretary.

[FR Doc. 00-19196 Filed 7-28-00; 8:45 am]

BILLING CODE 6717-01-M